DEPARTMENT OF COMMERCE

National Oceanic and Atmospheric Administration

Louisiana Regional Restoration Planning Program: Notice of Intent to Prepare a Programmatic Environmental Impact Statement

AGENCIES: National Oceanic and Atmospheric Administration (NOAA), Commerce; United States Department of the Interior (DOI); Louisiana Oil Spill Coordinator's Office (LOSCO); Louisiana Department of Environmental Quality (LDEQ); Louisiana Department of Natural Resources (LDNR); and Louisiana Department of Wildlife and Fisheries (LDWF).

ACTION: Notice of intent to begin scoping to prepare the Louisiana Regional Restoration Planning Program (RRP Program)/Programmatic Environmental Impact Statement (PEIS).

SUMMARY: Pursuant to 15 CFR 990.23 & 990.56, notice is hereby given that a document entitled, “Public Review Document of the Louisiana Regional Restoration Planning Program” will be available for public review and comment on or before July 2, 2001. This document has been prepared by the state and federal natural resource trustee agencies listed above to address natural resource damages in the State of Louisiana caused by discharges of oil, which are actionable under the Oil Pollution Act of 1990 (OPA), 33 U.S.C. 2701 et seq. Pursuant to OPA, the above natural resource trustee agencies claim damages from responsible parties to restore, rehabilitate, replace or acquire the equivalent of natural resources and services injured by oil spills. The purpose of the RRP Program is to develop an institutional framework and procedures that will enable the trustees to select and implement projects in Regional Restoration Plans (RRPs) that compensate the public and environment for losses of natural resources and services from unauthorized discharges of oil in a consistent and predictable manner. The purpose of the RRPs will be to identify, on a regional basis in the State of Louisiana, existing, planned, or proposed projects that may provide appropriate restoration alternatives for natural resources injured by oil spills and to enhance resolution of claims for natural resource damages caused by oil spills in a more expeditious and cost-effective manner. The trustees seek public involvement in the development of the RRP Program, RRPs and PEIS. Opportunities for public comment are provided through public review and comment on documents contained in the Administrative Record as well as on the Public Review Document, Draft and Final Environmental Impact Statement when prepared.

DATES: Comments on the “Public Review Document of the Louisiana Regional Restoration Planning Program” must be submitted in writing on or before August 20, 2001. Public meetings will be held on July 17-19 and 24-26.

ADDRESSES: Requests for copies of the “Public Review Document of the Louisiana Regional Restoration Planning Program” should be sent to Karolien Debusschere, Deputy Coordinator, Louisiana Oil Spill Coordinator's Office, Office of the Governor, 625 N. 4th Street, Suite 800, Baton Rouge, LA 70802; Kdebusschere@losco.state.la.us or Ann H. Berger, DARP Coordinator, NOAA/Office of General Counsel, 1305 East-West Highway, SSMC #4, Silver Spring, MD, 20910; ann.berger@noaa.gov. Written comments on the program should be sent either to LOSCO or NOAA to the persons at addresses listed above.

SUPPLEMENTARY INFORMATION: Traditionally, Louisiana's economy has been based on the state's vast natural resources. Both renewable (hunting, fishing, forest products) and nonrenewable (cultural, oil, natural gas) resources are important, and the industries associated with each have coexisted for years. Although Louisiana's oil and gas industry tries to avoid adverse impacts on renewable natural resources, injuries do occur as a result of oil spills. The cumulative impact of these incidents on fish, wildlife and the environment can be significant and adversely affect the industries and communities depending on natural resources for commerce and recreation.

Federal and state agencies have begun a collaborative process with the public and industry to develop the RRP Program and RRPs for the State of Louisiana. Currently, the restoration planning process is conducted on a case-by-case basis. The goal of the proposed RRP Program and RRPs is to identify and select feasible restoration projects prior to a spill incident, thereby shortening the restoration planning process, lowering its cost, and restoring lost resources sooner. The state will be divided into planning regions. For each region, an RRP will identify suitable restoration projects for restoring natural resources and services. Additionally, each RRP will provide an opportunity for trustees to pool restoration recoveries from multiple incidents towards larger, more cost-effective, and beneficial restoration projects. The RRP Program and RRPs will benefit the public, industry and natural resource trustees by increasing the efficiency of the restoration planning process.

NOAA, DOI, LOSCO, LDEQ, LDNR and LDWF are natural resource trustees designated pursuant to 33 U.S.C. 2706(c); Executive Order 12777; and the National Contingency Plan, 40 CFR 300.600 and 300.605. Pursuant to La. Rev. Stat. 30:2460, the State of Louisiana Oil Spill Contingency Plan (September 1995) describes the state trust resources which include the following: vegetated wetlands, surface waters, ground waters, air, soil, wildlife, aquatic life, and the appropriate habitats on which they depend. DOI has been designated as trustee for the natural resources that it manages or controls. Examples of those resources as described in the National Contingency Plan, 40 CFR 300.600(b)(2) and (3), include the following and their supporting ecosystems: migratory birds, anadromous fish, endangered species and marine mammals, federally owned minerals, certain federally managed water resources, and natural resources located on, over, or under land administered by DOI. NOAA's trust resources include, but are not limited to, commercial and recreational fish species, anadromous and catadromous fish species, marshes and other coastal habitats, marine mammals, and endangered and threatened marine species.

Pursuant to 15 CFR 990.56, the natural resource trustees are authorized to develop regional restoration plans as part of OPA's mandate for the trustees to restore, rehabilitate, replace, or acquire the equivalent of natural resources and services injured by oil spills and to compensate for interim losses of such resources and services.

The natural resource trustees also announce their intent to integrate the RRP Program with a Draft Programmatic Environmental Impact Statement (DPEIS). The National Environmental Policy Act, NEPA, 42 U.S.C. 4321 et seq., and Council on Environmental Quality (CEQ) regulations implementing NEPA, 40 CFR Chapter V, apply to restoration actions by federal trustees. Pursuant to NEPA and the CEQ regulations, the purpose of a DEIS is to involve the public and facilitate the decision making process in the trustees' analysis of alternatives for regional restoration planning.

In compliance with 15 CFR 990.45, the trustees will open an Administrative Record (Record). The record will include documents that the trustees relied upon during the development of the RRP Program and PEIS. Pursuant to 15 CFR 990.23 and 990.56, the trustees seek public involvement in developing the RRP Program and RRPs, through public review and comment of the documents contained in the Record (which will be maintained in the NOAA Damage Assessment Center, SSMC #4, 1305 East-West Highway, Silver Spring, Maryland, 20910-3281, and duplicate copies will be maintained in Baton Rouge at the Louisiana Oil Spill Coordinator's Office, Suite 800, 626 N. Street, Baton Rouge, LA), as well as the “Public Review Document of the Louisiana Regional Restoration Planning Program” and the Draft and Final Louisiana Regional Restoration Planning Program/Environmental Impact Statements when these documents have been prepared. The Record and the above documents will also be available at the following website: http://www.darp.noaa.gov/. The “Public Review Document of the Louisiana Regional Restoration Planning Program” will be released by July 2, 2001, and will be available at the listed addresses and website for public review and comment. The Public Review Document will provide the public with an early opportunity to review proposals for the RRP Program in order for the trustees to receive comments on the RRP Program's and RRPs development prior to the completion of the Draft RRP Program/EIS.

Public Meetings: The following are the dates and locations of public meeting scheduled (6:00 to 9:00 PM) to seek comments on the Public Review Document Draft of the Louisiana Regional Restoration Planning Program and input for the RRP Program/PEIS:

July 17, 2001, Shreveport, State Office Building, 1525 Fairfield Avenue, Room 205, Shreveport, LA

July 18, 2001, Monroe, Monroe City Hall, Council Chamber, 1st Floor, 400 Lea Joyner Expressway, Monroe, LA

July 19, 2001, Alexandria, Louisiana Convention Center, 2225 N. MacArthur Drive, Alexandria, LA 71303

July 24, 2001, New Orleans, Joseph S. Yenni Bldg., 1221 Elmwood Park Blvd., Jefferson Parish Council Chamber, 2nd Floor, Jefferson, LA 70123

July 25, 2001, Lake Charles, Burton Business Center, McNeese State University, 350 Lawton Drive, Lake Charles, LA 70609

July 26, 2001, Baton Rouge, Department of Wildlife & Fisheries, 2000 Quail Drive, 1st Floor, Louisiana Room, Baton Rouge, LA 70808

FOR FURTHER INFORMATION CONTACT: Karolien Debusschere at 225/219-5800; Kdebusschere@losco.state.la.us or Ann H. Berger at 301/713-3038 x192; ann.berger@noaa.gov.

Dated: June 13, 2001.
Captain Ted I. Lillestolen,
Deputy Assistant Administrator for Ocean Services and Coastal Zone Management.

[FR Doc. 01-15391 Filed 6-18-01; 8:45 am]

BILLING CODE 3510-JE-U